DEPARTMENT OF TRANSPORTATION

Federal Aviation Administration

14 CFR Part 39

[Docket No. 2000-SW-34-AD]

RIN 2120-AA64

Airworthiness Directives; Bell Helicopter Textron Canada Model 206A, B, L, L1, and L3 Helicopters

AGENCY: Federal Aviation Administration, DOT.

ACTION: Notice of proposed rulemaking (NPRM).

SUMMARY: This document proposes the adoption of a new airworthiness directive (AD) for Bell Helicopter Textron Canada (BHTC) Model 206A, B, L, L1, and L3 helicopters. This proposal would require inspecting the collective lever assembly (assembly) for a raised forging boss, inspecting the assembly for adequate clearance between the collective lever and the swashplate outer ring (outer ring), and modifying any assembly with a raised forging boss and inadequate clearance before further flight. Modifying any assembly that has a raised forging boss and adequate clearance would be required before further flight after January 31, 2001. This proposal is prompted by the discovery that a raised forging boss could result in control system interference. The actions specified by the proposed AD are intended to prevent interference between the collective lever and the outer ring, damage to flight controls, and subsequent loss of control of the helicopter.

DATES: The FAA must receive any comments on this proposal by November 13, 2000.

ADDRESSES: Submit comments to Docket No. 2000-SW-34-AD in one of the following ways:

• Mail comments in triplicate to the Federal Aviation Administration (FAA), Office of the Regional Counsel, Southwest Region, Attention: Rules Docket No. 2000-SW-34-AD, 2601 Meacham Blvd., Room 663, Fort Worth, Texas 76137. You may also send a request for a copy of the AD or regulatory evaluation to that address. If you want us to acknowledge receipt of your comments, you must include a self-addressed, stamped postcard on which the Docket Number is written. We will date-stamp your postcard and mail it back to you.

• E-mail comments to 9-asw-adcomments@faa.gov.

You may examine the AD Docket (including any comments and service information) at the FAA, Office of the Regional Counsel, Southwest Region, 2601 Meacham Blvd., Room 663, Fort Worth, Texas 76137 between 9 a.m. and 3 p.m., Monday through Friday, except Federal holidays.

FOR FURTHER INFORMATION CONTACT: Sharon Miles, Aviation Safety Engineer, FAA, Rotorcraft Directorate, Regulations Group, Fort Worth, Texas 76193-0111, telephone (817) 222-5122, fax (817) 222-5961.

SUPPLEMENTARY INFORMATION:

Comments Invited

The FAA invites you to submit any written relevant data, views, or arguments. Submit your comments as specified under the “ADDRESSES” caption. We specifically invite comments on the overall regulatory, economic, environmental, and energy aspects of the rule that might suggest a need to modify it. We will file a report in the AD Docket that summarizes each FAA contact with the public that is related to the substantive part of this rule.

The FAA will consider using the plain language format of this document, when appropriate, for future rulemaking actions. The FAA is especially interested in receiving comments on the proposed layout, appearance, and chart-type format used to publish the actions proposed by this NPRM. This format was developed in consultation with the Office of the Federal Register.

We will consider all comments received by the closing date. The proposals or format contained in this document may be changed because of the comments received.

Availability of NPRM's

You may obtain a copy of this NPRM by submitting a request to the FAA, Office of the Regional Counsel, Southwest Region, Attention: Rules Docket No. 2000-SW-34-AD, 2601 Meacham Blvd., Room 663, Fort Worth, Texas 76137.

Discussion

Transport Canada, which is the airworthiness authority for Canada, notified us that an unsafe condition may exist on BHTC Model 206A, B, L, L1, and L3 helicopters. Transport Canada advises that a raised forging boss on the collective lever assemblies could result in control system interference.

BHTC has issued Alert Service Bulletin No's. 206L-00-116, dated March 10, 2000, and 206-00-93, Revision A, dated May 10, 2000. These service bulletins specify examining the assembly, part number (P/N) 206-010-467-001, and modifying any assembly with a raised forging boss if the clearance between the assembly and the swashplate outer ring is 0.060 inch (1.52mm) or less. The service bulletins also specify modifying, regardless of clearance, the assembly at the next removal of the assembly but no later than January 31, 2001. Transport Canada classified these service bulletins as mandatory and issued AD No. CF-2000-13, dated May 23, 2000, to ensure the continued airworthiness of these helicopters in Canada.

These helicopter models are manufactured in Canada and are type certificated for operation in the United States under the provisions 14 CFR 21.29 and the applicable bilateral airworthiness agreement. Pursuant to this bilateral airworthiness agreement, Transport Canada has kept the FAA informed of the situation described above. The FAA has examined the findings of Transport Canada, reviewed all available information, and determined that AD action is necessary for products of these type designs that are certificated for operation in the United States.

We have identified an unsafe condition that is likely to exist or develop on other BHTC Model 206A, B, L, L1, and L3 helicopters of these same type designs registered in the United States. The proposed AD would require, for each assembly, P/N 206-010-467-001:

• Within 30 days, inspecting for a raised forging boss and for adequate clearance;

• Before further flight, modifying any collective lever if the clearance is 0.060 inch (1.52mm) or less between the assembly and the outer ring; and

• Before further flight after January 31, 2001, modifying any assembly that has a forging boss and adequate clearance. The actions would be required to be accomplished in accordance with the service bulletins described previously.

Regulatory Impact

We estimate that 6,000 helicopters of U.S. registry would be affected by this proposed AD and that it would take approximately 0.5 work hour per helicopter to inspect and 2 hours to modify the assembly. The average labor rate is $60 per work hour. Based on these figures, the total cost impact of the proposed AD on U.S. operators is estimated to be $900,000. The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. You can get a copy of the draft regulatory evaluation prepared for this action from the Rules Docket. A copy of it may be obtained by contacting the Rules Docket at the mailing address listed under the caption “ADDRESSES.” Your request must reference “AD Docket No. 2000-SW-34-AD.”

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new airworthiness directive:

DEPARTMENT OF TRANSPORTATION
Federal Aviation Administration (FAA)
Docket No. 2000-SW-34-AD
Bell Helicopter Textron Canada
Subject: Inspecting and Modifying Collective Lever Assemblies
(a) Comment Due Date | FAA must receive comments by November 13, 2000.
(b) Affected Documents | None.
(c) Applicability | Bell Helicopter Textron Canada Model: 206A (serial numbers (S/N) 004 through 660 and 672 through 715); 206B (S/N 661 through 671, 716 through 4529, and 5101 through 5267); 206L (S/N 45004 through 45153, and 46601 through 46617); 206L1 (S/N 45154 through 45790); and 206L3 (S/N 51001 through 51612) helicopters, with a collective lever assembly (assembly), part number (P/N) 206-010-467-001, installed, certificated in any category.
(d) Unsafe Condition | A raised forging boss could interfere with the control system. That could damage flight controls and cause loss of control of the helicopter.
(e) Compliance | Unless previously accomplished, inspect each assembly within 30 days. Modify any assembly that has a raised forging boss. Modify the assembly before further flight if the clearance is 0.060 inch (1.52mm) or less or before further flight after January 31, 2001 if the clearance is greater than 0.060 inch (1.52mm).
(f) Required Actions | (1) Within 30 days: (i) Inspect each assembly for a raised forging boss in accordance with the Accomplishment Instructions, Part I, paragraphs 1.a., of Bell Helicopter Textron Alert Service Bulletin Nos. 206L-00-116, dated March 10, 2000 (ASB 206L), or 206-00-93, Revision A, dated May 10, 2000 (ASB 206), as applicable, and (ii) If the assembly has a raised forging boss, inspect for clearance in accordance with the Accomplishment Instructions, Part I, paragraphs 2.a. through f., of ASB 206L or ASB 206, as applicable. (2) Modify each assembly in accordance with the Accomplishment Instructions, Part II, paragraphs 1 through 10, of ASB 206L or ASB 206, as applicable, as follows: (i) If the clearance is 0.060 inch (1.52mm) or less at one of the outer ring horns, before further flight. (ii) If the clearance is greater than 0.060 inch (1.52mm) at one of the outer ring horns, before further flight after January 31, 2001.
(g) Other Provisions | (1) Alternative Methods of Compliance (AMOC): (i) You may use an AMOC or adjust the time you take to meet the requirements of this AD if your alternative provides an acceptable level of safety and if the Manager, Regulations Group, approves your alternative. (ii) Submit your request for approval through an FAA Principal Maintenance Inspector, who may add comments and then send it to the Manager, Regulations Group. (iii) You can get information about the existence of already approved AMOC's by contacting the FAA, Rotorcraft Directorate, Regulations Group, 2601 Meacham Blvd., Fort Worth, Texas 76137. (2) Modifications, Alterations, or Repairs: This AD applies to each helicopter identified in the applicability paragraph, even if it has been modified, altered, or repaired in the area subject to this AD. If that change in any way affects accomplishing the required actions, you must request FAA approval for an AMOC. Your request should assess the effect of the change on the unsafe condition addressed by this AD. (3) Special Flight Permits: The FAA may issue you a special flight permit under 14 CFR 21.197 and 21.199 to operate your helicopter to a location where you can comply with this AD.
(h) Material Incorporated by Reference | Bell Helicopter Textron Alert Service Bulletin Nos. 206L-00-116, dated March 10, 2000, and 206-00-93, Revision A, dated May 10, 2000. Approval of incorporation by reference from the Office of the Federal Register is pending.
(i) Related Information | Transport Canada AD No. CF-2000-13, dated May 23, 2000.

Issued in Fort Worth, Texas on August 10, 2000.
Henry A. Armstrong,
Manager, Rotorcraft Directorate, Aircraft Certification Service.

[FR Doc. 00-22611 Filed 9-8-00; 8:45 am]

BILLING CODE 4910-13-S